DEPARTMENT OF VETERANS AFFAIRS

38 CFR Part 2

RIN 2900-AM66

Delegations of Authority: Office of Regulation Policy and Management (ORPM)

AGENCY: Department of Veterans Affairs.

ACTION: Final rule.

SUMMARY: This document amends the Department of Veterans Affairs regulation containing delegations of authority to the Assistant to the Secretary for Regulation Policy and Management. The amendments are intended to reflect changes in delegations of authority and to comply with Executive Order 12866 as recently amended, which requires that the position of Regulatory Policy Officer in each agency be filled by a Presidential Appointee.

DATES: Effective Date: June 22, 2007.

FOR FURTHER INFORMATION CONTACT: Robert C. McFetridge, Assistant to the Secretary for Regulation Policy and Management (00REG), Department of Veterans Affairs, 810 Vermont Avenue, NW., Washington, DC 20420, telephone (202) 273-9215.

SUPPLEMENTARY INFORMATION: The Office of Regulation Policy and Management (ORPM) provides centralized management and coordination of the rulemaking process in the Department of Veterans Affairs (VA). The office is led by the Assistant to the Secretary for Regulation Policy and Management (ASRPM). This final rule amends the delegations of authority at 38 CFR 2.6(l) for the ASRPM.

On January 18, 2007, the President signed Executive Order 13422, Further Amendment to Executive Order 12866 on Regulatory Planning and Review (72 FR 2763, Jan. 23, 2007). Under section 6(a)(2) of Executive Order 12866 as amended, each agency head was required, within 60 days of the amendment, to designate one of the agency's Presidential Appointees to the position of Regulatory Policy Officer. The Secretary of Veterans Affairs timely designated the Deputy Secretary of Veterans Affairs as VA's Regulatory Policy Officer, a position previously delegated in 38 CFR 2.6(l)(3) to the ASRPM, who is not a Presidential Appointee. As this final rule provides, the ASRPM has been delegated authority to serve as the Deputy Regulatory Policy Officer.

The Regulatory Policy Officer is required under section 6(a)(2) of Executive Order 12866 to be involved in each stage of the regulatory process to foster the development of effective, innovative, and least burdensome regulations and to further the principles set forth in the Executive Order. As amended, Executive Order 12866 also requires, in new section 9, that each agency take such steps as are necessary for its Regulatory Policy Officer to ensure the agency's compliance with that section's requirements concerning advance notification of significant guidance documents to the Office of Management and Budget's Office of Information and Regulatory Affairs.

This final rule amends the delegations of authority for the ASRPM at § 2.6(l) in accordance with recent delegations of authority by the Secretary concerning rulemaking and significant guidance documents. As amended, § 2.6(l)(3) reflects that the ASRPM has been delegated authority to serve as the Deputy Regulatory Policy Officer, to perform staff functions under the Department's Regulatory Policy Officer, and to perform other delegated functions in accordance with Executive Order 12866.

Administrative Procedure Act

This document's publication as a final rule with no delay in its effective date is pursuant to 5 U.S.C. 553, which exempts matters pertaining to agency organization and internal agency management from its notice-and-comment and delayed effective date requirements.

Executive Order 12866

Under the exemption in section 3(d)(3) of Executive Order 12866 for regulations limited to agency organization, management, or personnel matters, this document is not subject to the Executive Order's review requirements.

Unfunded Mandates

The Unfunded Mandates Reform Act of 1995 requires, at 2 U.S.C. 1532, that agencies prepare an assessment of anticipated costs and benefits before issuing any rule that may result in expenditure by State, local, and tribal governments, in the aggregate, or by the private sector, of $100 million or more (adjusted annually for inflation) in any given year. This rule will have no such effect on State, local, and tribal governments, or on the private sector.

Paperwork Reduction Act of 1995

This document contains no provisions constituting a collection of information under the Paperwork Reduction Act of 1995 (44 U.S.C. 3501-3521).

Regulatory Flexibility Act

The initial and final regulatory flexibility analysis requirements of sections 603 and 604 of the Regulatory Flexibility Act, 5 U.S.C. 601-612, are not applicable to this rule, because a notice of proposed rulemaking is not required for this rule. Even so, the Secretary hereby certifies that this regulatory amendment will not have a significant economic impact on a substantial number of small entities as they are defined in the Regulatory Flexibility Act. This amendment will not directly affect any small entities. Therefore, this amendment is also exempt pursuant to 5 U.S.C. 605(b) from the initial and final regulatory flexibility analysis requirements of sections 603-604.

Catalog of Federal Domestic Assistance

There are no Catalog of Federal Domestic Assistance program numbers for this rule.

List of Subjects in 38 CFR Part 2

Authority delegations (Government agencies).

Approved: June 15, 2007.
Gordon H. Mansfield,
Deputy Secretary of Veterans Affairs.

For the reasons set forth in the preamble, 38 CFR part 2 is amended as follows:

PART 2—DELEGATIONS OF AUTHORITY

1. The authority citation for part 2 continues to read as follows:

Authority: 5 U.S.C. 302, 552a; 38 U.S.C. 501, 512, 515, 1729, 1729A, 5711; 44 U.S.C. 3702, and as noted in specific sections.

2. Amend § 2.6 by:

a. In paragraph (l)(1), removing “Secretary” and adding, in its place, “Secretary, the Deputy Secretary,”.

b. Revising paragraph (l)(3).

The revision reads as follows:

§ 2.6 Secretary's delegations of authority to certain officials (38 U.S.C. 512).

* * * * *

(l) * * *

(3) To serve as the Deputy Regulatory Policy Officer, to perform staff functions under the Regulatory Policy Officer, and to perform other delegated functions in accordance with Executive Order 12866.

* * * * *

25 8

[FR Doc. E7-12058 Filed 6-21-07; 8:45 am]

BILLING CODE 8320-01-P